DEPARTMENT OF HOUSING AND URBAN DEVELOPMENT

[Docket No. FR-5997-N-54]

30-Day Notice of Proposed Information Collection for Public Comment on the: ConnectHome Expansion Data Collection

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: October 20, 2017.

ADDRESSES: Interested persons are invited to submit comments regarding this proposal. Comments should refer to the proposal by name and/or OMB Control Number and should be sent to: HUD Desk Officer, Office of Management and Budget, New Executive Office Building, Washington, DC 20503; fax: 202-395-5806.

Email: OIRA_Submission@omb.eop.gov.

FOR FURTHER INFORMATION CONTACT: Anna P. Guido, Reports Management Officer, QDAM, Department of Housing and Urban Development, 451 7th Street SW., Washington, DC 20410; email Anna Guido at Anna.Guido@hud.gov or telephone 202-402-5535. Persons with hearing or speech impairments may access this number through TTY by calling the toll-free Federal Relay Service at (800) 877-8339. This is not a toll-free number. Copies of available documents submitted to OMB may be obtained from Ms. Guido.

SUPPLEMENTARY INFORMATION: This notice informs the public that HUD has submitted to OMB a request for approval of the information collection described in Section A.

A. Overview of Information Collection

Title of Information Collection: ConnectHome Expansion Data Collection.

OMB Approval Number: 2528-Pending.

Type of Request: New collection.

Description of the need for the information and proposed use: The purpose of this effort is to support communities who “take-up” the ConnectHome Challenge to close the digital divide among HUD-assisted households. The ConnectHome Challenge will call on Mayors, County Executives, Tribal Leaders, Housing Agencies and other Housing Providers, and other community leaders to agree to close the digital divide among HUD- assisted households.

In signing on to The ConnectHome Challenge, a community is committing, among other things, to: (1) Establish (possibly in collaboration with their local knowledge institutions) baseline estimates of the percent of HUD-assisted households with in-home high-speed Internet that is not reliant on a smartphone; (2) collaborate with local stakeholders to establish performance targets for increasing in-home high-speed Internet adoption; (3) establish and share with HUD the local strategies for achieving in-home high-speed Internet adoption targets; and (4) develop and execute an implementation plan and share progress with HUD.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 12, 2017.
Anna P. Guido,
Department Reports Management Officer, Office of the Chief Information Officer.

[FR Doc. 2017-19937 Filed 9-19-17; 8:45 am]

BILLING CODE 4210-67-P